DEPARTMENT OF THE TREASURY

Agency Information Collection Activities; Submission for OMB Review; Comment Request; Multiple Departmental Offices Information Collection Requests

AGENCY: Departmental Offices, U.S. Department of the Treasury.

ACTION: Notice of information collection; request for comment.

SUMMARY: The Department of the Treasury will submit the following information collection requests to the Office of Management and Budget (OMB) for review and clearance in accordance with the Paperwork Reduction Act of 1995, on or after the date of publication of this notice. The public is invited to submit comments on these requests.

DATES: Comments should be received on or before August 30, 2024 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

1. Title: Treasury International Capital Form SLT, “Aggregate Holdings, Purchases and Sales, and Fair Value Changes of Long-Term Securities by U.S. and Foreign Residents”.

OMB Control Number: 1505-0235.

Type of Review: Extension without change of a currently approved collection.

Description: Form SLT is part of the Treasury International Capital (TIC) reporting system, which is required by law (22 U.S.C. 286f; 22 U.S.C. 3103; E.O. 10033; 31 CFR part 128) for the purpose of providing timely information on international capital movements. Form SLT is used to collect monthly data on cross-border ownership by U.S. and foreign residents of long-term securities, purchases and sales of long-term securities, and changes in fair value of long-term securities, for portfolio investment purposes. These data are used by the U.S. Government in the formulation of international and financial policies and for the preparation of the U.S. balance of payments accounts and the U.S. international investment position. Form SLT is filed by U.S.-resident custodians, U.S.-resident issuers of long-term securities, and U.S.-resident end-investors (including endowments, foundations, pension funds, mutual funds, and other investment managers/advisors/sponsors) in long-term foreign securities.

Form: Treasury International Capital Form SLT.

Affected Public: Businesses or other for-profits, Not-for-profit Institutions.

Estimated Number of Respondents: 429.

Frequency of Response: Monthly.

Estimated Total Number of Annual Responses: 5,148.

Estimated Time per Response: 14.5 hours.

Estimated Total Annual Burden Hours: 74,882.

2. Title: Coronavirus State and Local Fiscal Recovery Funds Program.

OMB Control Number: 1505-0271.

Type of Review: Revision of a currently approved collection.

Description: Sections 602 and 603 of the Social Security Act (the “Act”), as added by section 9901 of the American Rescue Plan Act of 2021, Public Law 117-2 (Mar. 11, 2021) authorized the Coronavirus State Fiscal Recovery Fund (“CSFRF”) and Coronavirus Local Fiscal Recovery Fund (“CLFRF”) respectively (referred to as the “Coronavirus State and Local Fiscal Recovery Funds” or “SLFRF”). The SLFRF provided $350 billion in total funding for the U.S. Department of the Treasury (“Treasury”) to make payments to States (defined to include the District of Columbia), U.S. Territories (defined to include Puerto Rico, U.S. Virgin Islands, Guam, Northern Mariana Islands, and American Samoa), Tribes, Metropolitan cities, Counties, Consolidated Governments, and (through States) Non-entitlement units of local government (collectively the “eligible entities”) to (1) respond to the COVID-19 public health emergency or its negative economic impacts, including providing assistance to households, small business, nonprofits, and impacted industries, such as tourism, travel, and hospitality; (2) respond to workers performing essential work during the COVID-19 pandemic by providing premium pay to eligible workers of the State, U.S. Territory, Tribal government, Metropolitan city, County, or Non-entitlement units of local government who are performing essential work or by providing grants to eligible employers that have eligible workers; (3) provide of government services, to the extent COVID-19 caused a reduction of revenues collected in the most recent full fiscal year of the State, U.S. Territory, Tribal government, Metropolitan city, County, or Non-entitlement units of local government; or (4) make necessary investments in water, sewer, or broadband infrastructure, (5) provide emergency relief from natural disasters or the negative economic impacts of natural disasters including temporary emergency housing, food assistance, financial assistance for lost wages, and other immediate needs; (6) use funds for projects eligible under 26 programs administered by the Department of Transportation (“Surface Transportation projects”), or (7) use funds for projects eligible under Title I of the Housing and Community Development Act of 1974 (“Title I projects”).

Title I projects require the implementing recipients to submit to Treasury a National Environmental Review Act (NEPA) Environmental Certification form under certain circumstances. This form can be found on the Treasury website.

To administer the SLFRF program, a Project and Expenditure (P&E) Report is required to be submitted by recipients quarterly or annually based on their “reporting tier” provided in the Compliance and Reporting Guidance. The first quarterly reports were due January 31, 2022 for certain recipients. The first annual reports were due April 30, 2022. The P&E Report has been updated periodically to accommodate new reporting needs corresponding to updated program guidance offered through interim final rules (IFRs) and frequently asked questions (FAQs) and will be continuously updated throughout the program's period of performance. Existing and anticipated future updates are reflected in the estimated time per response for reporting.

Final program reports will be due in accordance to guidelines established in 2 CFR 200.344, and property, real property, and equipment disposition procedures must be followed in accordance with 2 CFR 200.311, 200.313, and 200.314, as well as in accordance with additional guidance issued by Treasury.

Form: Award and Payment Forms and associated forms; Annual Recovery Performance Plan and Distribution Templates; Annual and Quarterly Project and Expenditure Reports, National Environmental Protection Act (NEPA) Review Certification Form for Title I projects, disposition and associated forms, and the Impact Story submission form.

Affected Public: State, Territorial, Tribal, and certain Local Governments.

Estimated Number of Respondents: 30,000.

Frequency of Response: As required.

Estimated Total Number of Annual Responses: 82,874.

Estimated Time per Response: 15 minutes to 1 hour for Award and Payment forms, up to 100 hours for Annual Recovery Plan Performance Reports, up to 15 hours for annual and quarterly Project and Expenditure Reports, up to 2 hours for Title I NEPA Environmental Reviews, and up to 1 hour for optional impact story submissions, in addition to time spent on previously collected items.

Estimated Total Annual Burden Hours: 628,494.

Authority: 44 U.S.C. 3501 et seq.

Spencer W. Clark,
Treasury PRA Clearance Officer.

[FR Doc. 2024-16865 Filed 7-30-24; 8:45 am]

BILLING CODE 4810-AK-P